DEPARTMENT OF ENERGY

Federal Energy Regulatory Commission

[Project No. 2735-104]

Pacific Gas and Electric Company; Notice of Intent To Prepare an Environmental Assessment

On April 18, 2024, Pacific Gas and Electric Company (PG&E) filed a relicense application for the 1,212-megawatt Helms Pumped Storage Project No. 2735 (project). The existing project is located approximately 50 miles northeast of the city of Fresno, on the North Fork Kings River and Helms Creek, in Fresno and Madera Counties, California. The project currently occupies 3,346.6 acres of federal land administered by the U.S. Forest Service (Forest Service), 28.36 acres of federal land managed by the U.S. Bureau of Reclamation (BOR), and 0.07 acres of land managed by the U.S. Bureau of Land Management (BLM). As proposed, the project would occupy 458.9 less acres of federal land administered by the Forest Service, an additional 0.14 acre of land managed by the BOR, and an additional 2.15 acres of land managed by the BOR.

In accordance with the Commission's regulations, on May 29, 2025, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the project.¹

¹ For tracking purposes under the National Environmental Policy Act, the unique identification number for documents relating to this environmental review is EAXX-019-20-000-1754558424.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues EA | June 17, 2026.

Any questions regarding this notice may be directed to Evan Williams at (202) 502-8462 or evan.williams@ferc.gov.

Dated: August 7, 2025.
Debbie-Anne A. Reese,
Secretary.

[FR Doc. 2025-15276 Filed 8-11-25; 8:45 am]

BILLING CODE 6717-01-P